DEPARTMENT OF TRANSPORTATION

Federal Aviation Administration

14 CFR Part 39

[Docket No. 2001-SW-72-AD; Amendment 39-12725; AD 2002-08-16]

RIN 2120-AA64

Airworthiness Directives; Eurocopter France Model SA341G, SA342J, and SA-360C Helicopters

AGENCY: Federal Aviation Administration, DOT.

ACTION: Final rule; request for comments.

SUMMARY: This amendment supersedes an existing airworthiness directive (AD) for the specified Eurocopter France (ECF) model helicopters. That AD currently requires replacing each affected unairworthy main rotor head torsion tie bar (tie bar) with an airworthy tie bar and revising the limitations section of the maintenance manual by adding a life limit for certain tie bars. This amendment requires additional revisions to the limitations section of the maintenance manual by further reducing the life limit for certain tie bars. This amendment is prompted by an accident involving an ECF Model SA341G helicopter due to the failure of a tie bar. The actions specified by this AD are intended to prevent failure of a tie bar, loss of a main rotor blade, and subsequent loss of control of the helicopter.

DATES: Effective May 8, 2002.

Comments for inclusion in the Rules Docket must be received on or before June 24, 2002.

ADDRESSES: Submit comments in triplicate to the Federal Aviation Administration (FAA), Office of the Regional Counsel, Southwest Region, Attention: Rules Docket No. 2001-SW-72-AD, 2601 Meacham Blvd., Room 663, Fort Worth, Texas 76137. You may also send comments electronically to the Rules Docket at the following address: 9-asw-adcomments@faa.gov.

FOR FURTHER INFORMATION CONTACT: Gary Roach, Aviation Safety Engineer, FAA, Rotorcraft Directorate, Rotorcraft Standards Staff, Fort Worth, Texas 76193-0111, telephone (817) 222-5130, fax (817) 222-5961.

SUPPLEMENTARY INFORMATION: On September 21, 2001, the FAA issued an Emergency AD (EAD) 2001-19-51 to require replacing each affected unairworthy tie bar, revising the limitations section of the maintenance manual by adding a life limit for certain tie bars, and specifying that certain tie bars are not approved for installation on any helicopter. That EAD was published in the Federal Register on November 23, 2001 (66 FR 58663) as Amendment 39-12508. Those actions were prompted by an accident involving an ECF Model SA341G helicopter due to the failure of a tie bar. The ECF Model SA342J and SA-360C helicopters have tie bars identical to the one that failed on the ECF Model SA341G helicopter. Failure of a tie bar could result in loss of a main rotor blade and subsequent loss of control of the helicopter.

Since the issuance of that AD, the Direction Generale De L'Aviation Civile (DGAC), the airworthiness authority for France, notified the FAA of another accident involving a Model SA341G helicopter due to failure of the tie bar.

ECF has issued Alert Telex Nos. 01.29R1 and 01.39R1, both dated December 11, 2001, which declare certain tie bars unairworthy and impose a 7-year life limit for certain other tie bars as a precautionary measure pending further investigation. The DGAC classified these telex alerts as mandatory and issued AD Nos. 2001-587-041(A) R1 and 2001-588-047(A) R1, both dated December 26, 2001, to ensure the continued airworthiness of these helicopters in France.

These helicopter models are manufactured in France and are type certificated for operation in the United States under the provisions of 14 CFR 21.29 and the applicable bilateral agreement. Pursuant to the applicable bilateral agreement, the DGAC has kept the FAA informed of the situation described above. The FAA has examined the findings of the DGAC, reviewed all available information, and determined that AD action is necessary for products of these type designs that are certificated for operation in the United States.

This unsafe condition is likely to exist or develop on other ECF model helicopters of these same type designs. Therefore, this AD supersedes AD 2001-19-51 to retain the requirement to remove certain part-numbered tie bars, to add the requirement to remove certain other tie bars at specified intervals, and to revise the limitations section of the maintenance manual by further reducing the life limit. The short compliance time involved is required because the previously described critical unsafe condition can adversely affect the structural integrity and controllability of the helicopter. Therefore, the actions previously mentioned are required before further flight, and this AD must be issued immediately.

Since a situation exists that requires the immediate adoption of this regulation, it is found that notice and opportunity for prior public comment hereon are impracticable and that good cause exists for making this amendment effective in less than 30 days.

The FAA estimates that 33 helicopters will be affected by this AD, that it will take approximately 8 work hours to replace the tie bars, and that the average labor rate is $60 per work hour. Required parts will cost approximately $13,335 per helicopter, assuming all 3 tie bars are replaced. Based on these figures, the total cost impact of the AD on U.S. operators is estimated to be $445,895 ($13,815 per helicopter).

Comments Invited

Although this action is in the form of a final rule that involves requirements affecting flight safety and, thus, was not preceded by notice and an opportunity for public comment, comments are invited on this rule. Interested persons are invited to comment on this rule by submitting such written data, views, or arguments as they may desire. Communications should identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Comments are specifically invited on the overall regulatory, economic, environmental, and energy aspects of the rule that might suggest a need to modify the rule. All comments submitted will be available in the Rules Docket for examination by interested persons. A report that summarizes each FAA-public contact concerned with the substance of this AD will be filed in the Rules Docket.

Commenters wishing the FAA to acknowledge receipt of their mailed comments submitted in response to this rule must submit a self-addressed, stamped postcard on which the following statement is made: “Comments to Docket No. 2001-SW-72-AD.” The postcard will be date stamped and returned to the commenter.

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing Amendment 39-12508, Docket No. 2001-SW-48-AD (66 FR 58663) and by adding a new airworthiness directive (AD), Amendment 39-12725, to read as follows:

2002-08-16 Eurocopter France: Amendment 39-12725. Docket No. 2001-SW-72-AD. Supersedes AD No. 2001-19-51, Amendment 39-12508, Docket No. 2001-SW-48-AD.

Applicability: Model SA341G, SA342J, and SA-360C helicopters with a main rotor head torsion tie bar (tie bar), part number (P/N):

341A31-4904-00, -01, -02, -03;

341A31-4933-00, -01;

360A31-1097-02, or -03, installed, certificated in any category.

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (d) of this AD. The request should include an assessment of the effect of the modification, alteration, or repair on the unsafe condition addressed by this AD; and if the unsafe condition has not been eliminated, the request should include specific proposed actions to address it.

Compliance: Required as indicated, unless accomplished previously.

To prevent failure of a tie bar, loss of a main rotor blade, and subsequent loss of control of the aircraft, accomplish the following:

(a) Before further flight, remove each tie bar, P/N 341A31-4904-00, -01, -02, or -03; or 360A31-1097-02 or -03, from service.

(b) For each tie bar, P/N 341A31-4933-00 or -01:

(1) Before further flight, determine the date of initial installation on any helicopter using the date of manufacture if the date of installation cannot be determined.

(2) For each tie bar with 7 or more years time-in-service (TIS) since initial installation on any helicopter, remove within 5 hours TIS.

(3) For each tie bar manufactured before 1995 with less than 7 years TIS since initial installation on any helicopter, remove before accumulating 7 years TIS, within 300 hours TIS, or within 1 year, whichever occurs first.

(4) For each tie bar manufactured in 1995 or subsequent years with less than 7 years TIS since initial installation on any helicopter, remove before accumulating 7 years TIS, within 600 hours TIS, or within 2 years, whichever occurs first.

Note 2: Eurocopter France (ECF) Alert Telex Nos. 01.29R1 and 01.39R1, both dated December 11, 2001, pertain to the subject of this AD.

(c) This AD revises the limitations section of the maintenance manual by adding to the current life limit of 5000 hours TIS, the following additional alternative life limits for tie bars, P/N 341A31-4933-00 or 341A31-4933-01:

(1) Seven years TIS from initial installation on any helicopter or

(2) For tie bars manufactured before 1995, a life limit of 300 hours TIS or 1 year, or

(3) For tie bars manufactured in 1995 or subsequent years, a life limit of 600 hours TIS or 2 years, whichever occurs first.

(d) An alternative method of compliance or adjustment of the compliance time that provides an acceptable level of safety may be used if approved by the Manager, Regulations Group, Rotorcraft Directorate FAA. Operators shall submit their requests through an FAA Principal Maintenance Inspector, who may concur or comment and then send it to the Manager, Regulations Group.

Note 3: Information concerning the existence of approved alternative methods of compliance with this AD, if any, may be obtained from the Regulations Group.

(e) Special flight permits will not be issued.

(f) This amendment becomes effective on May 8, 2002.

Note 4: The subject of this AD is addressed in Direction Generale De L'Aviation Civile (France) ADs 2001-587-041(A) R1 and 2001-588-047(A) R1, both dated December 26, 2001.

Issued in Fort Worth, Texas, on April 11, 2002.
Eric Bries,
Acting Manager, Rotorcraft Directorate, Aircraft Certification Service.

[FR Doc. 02-9728 Filed 4-22-02; 8:45 am]

BILLING CODE 4910-13-P